DEPARTMENT OF THE INTERIOR

National Park Service

[NPS-WASO-NAGPRA-NPS0034982; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NYSM) has completed an inventory of human remains and associated funerary objects and has determined that there is a cultural affiliation between the human remains and associated funerary objects and Indian Tribes or Native Hawaiian organizations in this notice. The human remains and associated funerary objects were removed from Albany, Greene, Rensselaer, Saratoga, Schenectady, Warren, and Washington Counties, NY, and Rutland County, VT.

DATES: Repatriation of the human remains and associated funerary objects in this notice may occur on or after January 9, 2023.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the NYSM. The National Park Service is not responsible for the determinations in this notice. Additional information on the determinations in this notice, including the results of consultation, can be found in the inventory or related records held by the NYSM.

Description

In 1982, human remains representing, at minimum, four individuals were removed from the Abele site in Menands, Albany County, NY, during excavations conducted by the University at Albany, State University of New York. The human remains were transferred to the NYSM in 2004. The human remains belong to one possible male over the age of 50, two adults of unknown sex (represented by partial hand bones), and one infant (represented by fragmentary vertebrae). No known individuals were identified. No associated funerary objects are present. Based on their archeological context, the human remains may date to the Middle Woodland period or later.

In 1959, human remains representing, at minimum, one individual were removed from the Barren Island site in Albany County, NY, during excavations conducted by avocational archeologists Mr. R. Arthur Johnson and Mr. E.B. Christman. The human remains were donated to the NYSM in the same year. The human remains belong to one, probably male, adult. No known individual was identified. No associated funerary objects are present. Based on their archeological context, the human remains have been associated with the Middle Woodland period.

In the 1960s, human remains representing, at minimum, seven individuals were removed from the Dennis site in Menands, Albany County, NY, during salvage excavations conducted by Mr. R. Arthur Johnson and others after the site was disturbed by mining activity. The human remains were donated to the NYSM in the 1960s and 2000. The fragmentary remains belong to one male 35-50 years old, one female 15-17 years old, two young adults of unknown sex, one adult who is probably female, and two adults of unknown sex. No known individuals were identified. No associated funerary objects are present. Archeological evidence indicates the Dennis site was occupied intermittently from the Late Archaic through Late Woodland periods; these human remains are thought to date to the later occupation.

In 1962, human remains representing, at minimum, two individuals were removed from the Fish Club Cave site in Coeymans, Albany County, NY, during excavations conducted by Dr. Robert E. Funk of the NYSM and avocational archeologist Mr. R. Arthur Johnson. No burials were identified during the excavation. The human remains were subsequently identified during an examination of the animal bones recovered from refuse deposits. They belong to one possible adult female (represented by cranial fragments and a tooth) and one adult of unknown sex. No known individuals were identified. No associated funerary objects are present. Archeological evidence indicates the Fish Club Cave site was occupied intermittently from the Late Archaic to late Middle Woodland period; the human remains are believed to date to the later period of occupation.

In 1967, human remains representing, at minimum, one individual were removed during construction on the South Mall or Empire State Plaza in Albany County, NY, and transferred by the Albany County Coroner to the NYSM. They belong to a female 25-35 years old (represented by the skull and a tibia). No known individual was identified. No associated funerary objects are present. No information on the archeological context of these human remains is available.

In 1973, human remains representing, at minimum, four individuals were removed from the vicinity of Selkirk in Albany County, NY, during construction of a water filtration plant. The human remains were probably transferred to the NYSM by local law enforcement. They include the commingled cranial remains of one female and two males 30-50 years old, and one adult of unknown sex. No known individuals were identified. No associated funerary objects are present. The human remains have been dated to the Late Woodland period.

Between 1933 and 1938, human remains representing, at minimum, two individuals were removed from the Van Schaick's Island site in Albany County, NY, by avocational archeologist Mr. Homer Folger after they were found eroding from the riverbank. In 2012, Folger's family donated these human remains to the NYSM. They include the extremely fragmentary and commingled remains of a male 35-55 years old and an individual of unknown age and sex. No known individuals were identified. The 38 associated funerary objects are 20 dark blue faceted glass beads, 14 white glass seed beads, one fragment of turtle shell, and three chert flakes. Based on the glass beads in the collection, the human remains date to ca A.D. 1725-1750.

In 1935, human remains representing, at minimum, two individuals were removed from the Black Rock site in Greene County, NY, during excavations conducted by Mr. Noah T. Clarke of the NYSM. The human remains belong to a female over the age of 60 years and a male 40-44 years old. No known individuals were identified. The two associated funerary objects are one dog skeleton and one bone awl.

In 1964, human remains representing, at minimum, two individuals were removed from the Black Rock site in Greene County, NY, during excavations conducted by Dr. Robert E. Funk of the NYSM. The human remains belong to two adults of unknown sex. No known individuals were identified. No funerary objects are present. Archeological evidence from the Black Rock site indicates the human remains and associated funerary objects date to the late Middle Woodland period, ca. A.D. 850.

In 1931, human remains representing, at minimum, one individual were removed from the Lefurgy site in Greene County, NY, by Mr. Noah T. Clarke of the NYSM after they were accidentally disturbed. The human remains belong to a possible male 35-45 years old. No known individual was identified. The 11 associated funerary objects are one ground wolf mandible and maxilla, one chert projectile point, one chert flake, and eight animal bone fragments. The artifacts suggest the burial dates sometime between the Late Archaic and Middle Woodland periods.

In 1963 and 1964, human remains representing, at minimum, 32 individuals were removed from the Tufano site in Greene County, NY, during excavations conducted by Dr. Robert E. Funk of the NYSM. The fragmentary human remains belong to two infants, eight children 7-15 years old, eight females 17-50 years old, nine males 24-60 years old, and five adults of unknown sex. No known individuals were identified. The 217 associated funerary objects are one two-holed gorget, one rubbing stone, three box turtle carapace fragments, one pottery elbow pipe, 24 pottery sherds, 13 projectile points, one projectile point base, two drills, 22 bifaces, one flake knife, 117 flakes, two hammerstones, one pitted stone, 11 unmodified stones, one redware fragment, one rough stone tool, one bone fishhook, five samples of animal bone, two shell samples, three soil samples, three charcoal samples, and one red ocher sample. Archeological evidence indicates the Tufano site dates to the late Middle Woodland period, ca A.D. 700.

Between 1955 and 1957, human remains representing, at minimum, six individuals were removed from the Van Orden site in Greene County, NY, during excavations conducted by Dr. William A. Ritchie of the NYSM and avocational archeologist Mr. Carl S. Sundler after the site was disturbed by construction. In 1974, items from the site that had been retained by Mr. Sundler were donated to the NYSM as part of a larger collection. The extremely fragmentary human remains belong to one possible adult female, four adults of unknown sex, and one individual of unknown age and sex. No known individuals were identified. The 161 associated funerary objects are 46 rolled copper beads, 11 projectile points, two preforms, six chert tools, 88 chert flakes, two pottery sherds, one steatite sherd, two charcoal samples, and three turtle shell fragments. Archeological evidence indicates the Van Orden site dates to the Early to Middle Woodland period.

In 1959, human remains representing, at minimum, one individual were removed from the Burden Estate in Troy, Rensselaer County, NY, and transferred by law enforcement to the NYSM. The human remains represent a female 40-50 years old. No known individual was identified. No associated funerary objects are present.

In 1962, human remains representing, at minimum, one individual were removed from an unknown location on Third Avenue Extension in East Greenbush, Rensselaer County, NY, and transferred by law enforcement to the NYSM. The human remains—a fragmentary skull—belong to an adult female. No known individual was identified. No associated funerary objects are present.

In 1973, human remains representing, at minimum, one individual were removed from the Town of Schodack in Rensselaer County, NY, during highway construction. In 1996, they were transferred by the New York State Police to the NYSM after being identified as Native American by Dr. William R. Maples of the C.A. Pound Human Identification Laboratory at the Florida Museum of Natural History. The human remains—a fragmentary skull and humerus—belong to a male 40-50 years old. No known individual was identified. No associated funerary objects are present.

In 1978, human remains representing, at minimum, three individuals were removed from property owned by the General Electric Company in Waterford, Saratoga County, NY, after they were discovered during construction. They were transferred to the NYSM that same year. The fragmentary, commingled human remains belong to one female 55-70 years old, one possible female 25-35 years old, and one child 10-16 years old. No known individuals were identified. The 18 associated funerary objects are 14 chert flakes, two deer bone fragments, one sturgeon bone, and one charcoal sample. Archeological evidence suggests the human remains date to the Late Woodland period.

In 1954, human remains representing, at minimum, one individual were removed from the Winney's Rift site, also known as Lewandowski, on Fish Creek, in Saratoga County, NY, during excavations conducted by Dr. William A. Ritchie of the NYSM. The human remains—a molar tooth—belong to a young adult of unknown sex. No known individual was identified. No associated funerary objects are present.

Sometime prior to 1968, human remains representing, at minimum, one individual were removed from the Lewandowski site, also known as Winney's Rift, in Saratoga County, NY, during excavations conducted by avocational archeologist Mr. Louis Follett. In 1968, Follett donated these human remains to the NYSM. The human remains belong to a male 25-30 years old. No known individual was identified. No associated funerary objects are present.

Sometime prior to 1976, human remains representing, at minimum, two individuals were removed from the vicinity of Fish Creek, possibly the Lewandowski site, also known as Winney's Rift, in Saratoga County, NY, by avocational archeologist Mr. Joseph Furey. In 1976, Furey donated these human remains to the NYSM. The fragmentary human remains belong to a female 25-35 years old and an infant. No known individuals were identified. No associated funerary objects are present.

Sometime prior to the 1970s, human remains representing, at minimum, one individual were removed from the vicinity of Fish Creek in Saratoga County, NY, by avocational archeologist Mr. William Rice. In 2006, Rice's family donated his collection, including these human remains, to the NYSM. Although no documentation accompanied the collection, Rice is known to have conducted excavations at the Lewandowski site, also known as Winney's Rift, on Fish Creek in 1968 and 1969. The human remains—a skull—belong to a male 40-50 years old. No known individual was identified. No associated funerary objects are present. Archeological evidence indicates long-term use of the Lewandowski/Winney's Rift site, with increasingly intensive occupation through the Late Woodland period.

In 1954, human remains representing, at minimum, three individuals were removed from the Campbell Ave site in Rotterdam, Schenectady County, NY, by Schenectady Museum staff after being discovered during sand and gravel mining activity. In 1974, the items removed from the site were transferred to the NYSM. The fragmentary, commingled human remains belong to one female 50-60 years old, one possible female 25-35 years old, and one infant. No known individuals were identified. The 34 associated funerary objects are one Levanna-type projectile point and 33 animal bone fragments. Artifacts recovered from the site suggest the human remains date to the Late Woodland period.

In 1926, human remains representing, at minimum, one individual were removed from the Dunham's Bay site in Lake George, Warren County, NY, during excavations conducted by Mr. Noah T. Clarke of the NYSM. The human remains—three maxillary teeth—belong to a child 9-10 years old. The 12 associated funerary objects are five rolled copper beads, six olivella and columella shell beads, and one charcoal sample. Archeological evidence suggests the human remains date to the Early Woodland period.

In 1965, human remains representing, at minimum, five individuals were removed from the Barton site in Easton, Washington County, NY, during salvage excavations conducted by Dr. Robert E. Funk and Dr. William A. Ritchie of the NYSM after being discovered during construction activity. The fragmentary human remains belong to one child, three possible adult males, and one adult of unknown sex. No known individuals were identified. The 127 associated funerary objects are 53 copper beads, 46 columella shell beads, four projectile points, 12 chipped stone tools, two stone flakes, one animal bone fragment, one antler fragment, five galena nodules, two charcoal samples, and one soil sample. Archeological evidence suggests the human remains date to the Early Woodland period.

In 1977, human remains representing, at minimum, seven individuals were removed from the Otter Creek 2 site in Rutland County, VT, during excavations conducted by Mr. Richard T. Passino. In 1978, Passino donated the items recovered from the site to the NYSM. The fragmentary, commingled human remains belong to four children and three males 25-45 years old. No known individuals were identified. The one associated funerary object is a dog skeleton. Archeological evidence suggests the Otter Creek 2 site dates to the Late Archaic period; the human remains may be associated with a later occupation.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and linguistic.

Determinations

Pursuant to NAGPRA and its implementing regulations, and after consultation with the appropriate Indian Tribes and Native Hawaiian organizations, the NYSM has determined that:

• The human remains described in this notice represent the physical remains of 91 individuals of Native American ancestry.

• The 621 objects described in this notice are reasonably believed to have been placed with or near individual human remains at the time of death or later as part of the death rite or ceremony.

• There is a relationship of shared group identity that can be reasonably traced between the human remains and associated funerary objects described in this notice and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 9, 2023. If competing requests for repatriation are received, the NYSM must determine the most appropriate requestor prior to repatriation. Requests for joint repatriation of the human remains and associated funerary objects are considered a single request and not competing requests. The NYSM is responsible for sending a copy of this notice to the Indian Tribe identified in this notice.

Authority: Native American Graves Protection and Repatriation Act, 25 U.S.C. 3003, and the implementing regulations, 43 CFR 10.9, 10.10, and 10.14.

Dated: November 30, 2022.
Melanie O'Brien,
Manager, National NAGPRA Program.

[FR Doc. 2022-26803 Filed 12-8-22; 8:45 am]

BILLING CODE 4312-52-P